DEPARTMENT OF COMMERCE

Foreign-Trade Zones Board

[B-8-2016]

Foreign-Trade Zone 23—Buffalo, New York, Application for Subzone, Cummins, Inc., Lakewood and Jamestown, New York

An application has been submitted to the Foreign-Trade Zones (FTZ) Board by the County of Erie, grantee of FTZ 23, requesting subzone status for the facilities of Cummins, Inc. (Cummins), located in Lakewood and Jamestown, New York. The application was submitted pursuant to the provisions of the Foreign-Trade Zones Act, as amended (19 U.S.C. 81a-81u), and the regulations of the FTZ Board (15 CFR part 400). It was formally docketed on February 17, 2016.

The proposed subzone would consist of the following sites: Site 1 (107.02 acres) Jamestown Engine Plant, 4720 Baker Street Extension, Lakewood, Chautauqua County; and Site 2 (14.86 acres) JAW Warehouse, 101-133 Jackson Avenue, Jamestown, Chautauqua County. Cummins has indicated that a notification of proposed production activity will be submitted. Such a notification would be processed under 15 CFR 400.37.

In accordance with the FTZ Board's regulations, Elizabeth Whiteman of the FTZ Staff is designated examiner to review the application and make recommendations to the FTZ Board.

Public comment is invited from interested parties. Submissions shall be addressed to the FTZ Board's Executive Secretary at the address below. The closing period for their receipt is April 4, 2016. Rebuttal comments in response to material submitted during the foregoing period may be submitted during the subsequent 15-day period to April 18, 2016.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

FOR FURTHER INFORMATION CONTACT: Elizabeth Whiteman at Elizabeth.Whiteman@trade.gov or (202) 482-0473.

Dated: February 17, 2016.
Andrew McGilvray,
Executive Secretary.

[FR Doc. 2016-03629 Filed 2-19-16; 8:45 am]

BILLING CODE 3510-DS-P